DEPARTMENT OF COMMERCE

Bureau of Economic Analysis

Data Sharing Activity

AGENCY: Bureau of Economic Analysis, Commerce.

ACTION: Notice of determination.

SUMMARY: The Bureau of Economic Analysis (BEA) will provide to the Bureau of Labor Statistics (BLS) data collected from several surveys that it conducts on U.S. direct investment abroad, foreign direct investment in the United States, and U.S. international trade in services for statistical purposes exclusively. In accordance with the requirement of Section 524(d) of the Confidential Information Protection and Statistical Efficiency Act of 2002 (CIPSEA), we provided the opportunity for public comment on this data-sharing action (see the March 27, 2006 edition of the Federal Register (71 FR 15160)). BEA will provide data collected in its surveys to link with data from BLS surveys, including the Quarterly Census of Employment and Wages, the Occupational Employment Statistics survey, and the Mass Layoff Statistics survey. The linked data will be used for several purposes by both agencies, such as to develop detailed industry-level estimates of the employment, payroll, and occupational structure of foreign-owned U.S. companies or of U.S. companies that own foreign affiliates, and to assess the adequacy of current government data for understanding the international outsourcing activities of U.S. companies. Non-confidential aggregate data (public use) and reports that have cleared BEA and BLS disclosure review will be provided to the National Academy of Public Administration (NAPA) as potential inputs into a study of off-shoring authorized by a grant to NAPA under Public Law 108-447. Disclosure review is a process conducted to verify that the data to be released do not reveal any confidential information.

FOR FURTHER INFORMATION CONTACT: Requests for additional information on this program should be directed to Obie G. Whichard, Department of Commerce, Bureau of Economic Analysis, BE-50(OC), Washington, DC 20230, via the Internet at obie.whichard@bea.gov, by phone on (202) 606-9890, or by fax on (202) 606-5318.

SUPPLEMENTARY INFORMATION:

Background

CIPSEA (Pub. L. 107-347, Title V) and the International Investment and Trade in Services Survey Act (Pub. L. 94-472, 22 United States Code (U.S.C.) 3101-3108) allow BEA and BLS to share certain business data for exclusively statistical purposes. Section 524(d) of the CIPSEA required a Federal Register notice announcing the intent to share data (allowing 60 days for public comment), since BEA respondents were required by law to report the data.

On March 27, 2006 (71 FR 15160), BEA published in the Federal Register a notice of this proposed data-sharing activity and request for comment on the subject. BEA did not receive any public comments.

Shared Data

BEA will provide the BLS with data collected from benchmark, annual, and quarterly surveys of U.S. direct investment abroad, of foreign direct investment in the United States, and of U.S. international trade in services, as well as a survey of new foreign direct investments in the United States. BLS will use these data for statistical purposes exclusively.

Statistical Purposes for the Shared Data

Data collected in the benchmark and annual surveys of direct investment are used to develop estimates of the financing and operations of U.S. parent companies, their foreign affiliates, and U.S. affiliates of foreign companies; data collected in the quarterly direct investment surveys are used to develop estimates of transactions and positions between parents and affiliates; data collected in the new investments survey are used to develop estimates of new foreign direct investments in the United States; and data collected in the benchmark, annual and quarterly surveys of U.S. international trade in services are used to develop estimates of services transactions between U.S. companies and unaffiliated foreign parties. These estimates are published in the Survey of Current Business, BEA's monthly journal; in other BEA publications; and on BEA's Web site at http://www.bea.gov/. All data are collected under Sections 3101-3108 of Title 22, U.S.C.

The data set created by linking these data with the data from the above-designated BLS surveys will be used for several purposes by both agencies, such as to develop detailed industry-level estimates of the employment, payroll, and occupational structure of foreign-owned U.S. companies or of U.S. companies that own foreign affiliates, and to assess the adequacy of current government data for understanding the international outsourcing activities of U.S. companies.

Data Access and Confidentiality

Title 22, U.S.C. 3104 protects the confidentiality of these data. The data may be seen only by persons sworn to uphold the confidentiality of the information. Access to the shared data will be restricted to specifically authorized personnel and will be provided for statistical purposes only. Any results of this research are subject to BEA disclosure protection. All BLS employees with access to these data will become BEA Special Sworn Employees—meaning that they, under penalty of law, must uphold the data's confidentiality. Selected NAPA employees will provide BEA with expertise on the aspects of the data collected in BEA surveys and in the linked data set that may relate to off-shoring; these NAPA consultants assisting with the work at BEA also will become BEA Special Sworn Employees. No confidential data will be provided to the NAPA.

Dated: June 6, 2006.
Rosemary D. Marcuss,
Acting Director, Director, Bureau of Economic Analysis.

[FR Doc. E6-9074 Filed 6-9-06; 8:45 am]

BILLING CODE 3510-06-P